CONSUMER PRODUCT SAFETY COMMISSION

[CPSC Docket No. 21-2]

Amazon.Com, Inc.

AGENCY: Consumer Product Safety Commission.

ACTION: Publication of a Complaint under the Consumer Product Safety Act.

SUMMARY: Under provisions of its Rules of Practice for Adjudicative Proceeding, the Consumer Product Safety Commission must publish in the Federal Register Complaints which it issues. Published below is a Complaint: In the matter of Amazon.com.

FOR FURTHER INFORMATION CONTACT: Alberta E. Mills, Secretary, Division of the Secretariat, Office of the General Counsel, U.S. Consumer Product Safety Commission, 4330 East-West Highway, Bethesda, MD 20814, (301) 504-7479 (Office) or 240-863-8938 (cell).

SUPPLEMENTARY INFORMATION: The Commission voted 3-1 to authorize issuance of this Complaint. Acting Chairman Adler, Commissioners Kaye and Feldman voted to authorize issuance of the Complaint. Commissioner Baiocco voted to not authorize issuance of the Complaint. The text of the Complaint appears below.

Dated: July 15, 2021.
Alberta E. Mills,
Secretary, Consumer Product Safety Commission.

BILLING CODE 6355-01-P

[FR Doc. 2021-15440 Filed 7-20-21; 8:45 am]

BILLING CODE 6355-01-C